DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | Depth in feet above ground. * Elevation in feet (NGVD) +Elevation in feet (NAVD) Modified
City of Hamilton, Illinois
Docket No.: FEMA-P-7917
Illinois | City of Hamilton | Chaney Creek Tributary 1 | Approximately 190 feet upstream of the confluence with Chaney Creek | +532
|  |  | Approximately 1,155 feet upstream of Park Drive | +605
|  | Cheny Creek Tributary | At the confluence with Chaney Creek Tributary 1 | +580
|  |  | Approximately 20 feet upstream of Hillcrest Drive | +616
|  | Railroad Creek Tributary 1 | Approximately 215 feet upstream of the confluence with Railroad Creek | +558
|  |  | Approximately 30 feet upstream of Walnut Street | +612
|  | Tributary 2 | Approximately 345 feet upstream of the confluence with Railroad Creek | +588
|  |  | Approximately 435 feet upstream of Broadway Street | +645
|  | Tributary 3 | Approximately 200 feet upstream of the confluence with Railroad Creek | +575
|  |  | Approximately 60 feet upstream of South 19th Street | +635
|  | Spring Creek | Approximately 460 feet upstream of the confluence with Chaney Creek | +561
|  |  | Approximately 1,975 feet upstream of the confluence with Chaney Creek | +611
# Depth in feet above ground.
* National Geodetic Vertical Datum.
+ North American Vertical Datum.
ADDRESSES
City of Hamilton
Maps are available for inspection at the Community Map Repository, City of Hamilton, City Hall, 1010 Broadway, Hamilton, Illinois.
Hancock County, Illinois (Unincorporated Areas)
Docket No.: FEMA-P-7917
Illinois | Hancock County (Unincorporated Areas) | Chaney Creek Tributary 1 | Approximately 70 feet upstream of the confluence with Chaney Creek | *529
|  |  | Approximately 370 feet upstream of the confluence with Chaney Creek | *536
|  | Railroad Creek Tributary 3 | Approximately 2,970 feet upstream of the confluence with Railroad Creek | *636
|  |  | Approximately 3,170 feet upstream of the confluence with Railroad Creek | *636
|  | Spring Creek | Approximately 70 feet upstream of the confluence with Chaney Creek | *536
|  |  | Approximately 460 feet upstream of the confluence with Chaney Creek | *561
# Depth in feet above ground.
* National Geodetic Vertical Datum.
+ North American Vertical Datum.
ADDRESSES
Hancock County, UIllinois (Unincorporated Areas)
Maps are available for inspection at the Community Map Repository, Hancock County Courthouse, 500 Main Street, Carthage, Illinois.

Flooding source(s) | Location of referenced elevation | *Elevation in feet (NGVD) +Elevation in feet (NAVD) # Depth in feet above ground Modified | Communities affected
Richmond County, North Carolina and Incorporated Areas
Docket No.: FEMA-D-7686
Baggetts Creek | At the confluence with Speeds Creek | +135 | Richmond County (Unincorporated Areas).
| At U.S. Highway 1 | +159
Beaver Dam Creek (into Rocky Fork Creek) | At the confluence with Rocky Fork Creek | +238 | Richmond County (Unincorporated Areas).
| Approximately 0.4 mile upstream of Millstone Road (State Road 1487) | +315
Beaverdam Branch | Approximately 50 feet upstream of the Railroad | +247 | Richmond County (Unincorporated Areas).
| Approximately 860 feet upstream of Chalk Road | +269 | City of Hamlet, City of Rockingham.
Beaverdam Creek (into Big Mountain Creek) | At the confluence with Big Mountain Creek | +341 | Richmond County (Unincorporated Areas).
| Approximately 100 feet downstream of Capel Mill Road (State Road 1321) | +367
Bells Creek | At the confluence with Rocky Fork Creek | +270 | Richmond County (Unincorporated Areas).
| Approximately 1,200 feet upstream of Haywood Parker Road (State Road 1441) | +320
Big Branch | At the confluence with Drowning Creek | +302 | Richmond County (Unincorporated Areas).
| Approximately 0.8 mile upstream of the confluence with Drowning Creek | +318
Big Mountain Creek | At the confluence with Mountain Creek and Little Mountain Creek | +246 | Richmond County (Unincorporated Areas).
| Approximately 600 feet upstream of the confluence of Silver Creek | +374
Big Muddy Creek | At the Richmond/Scotland County boundary | +311 | Richmond County (Unincorporated Areas), Town of Hoffman.
| Approximately 1,500 feet upstream of Blues Bridge Road | +397
Black Branch | At the confluence with Solomans Creek | +214 | Richmond County (Unincorporated Areas).
| Approximately 0.5 mile upstream of U.S. Highway 74 | +256
Bones Fork Creek | At the confluence with Hitchcock Creek | +256 | Richmond County (Unincorporated Areas).
| Approximately 1,000 feet upstream of Millstone Road (State Road 1487) | +276
Tributary 1 | At the confluence with Bones Fork Creek | +267 | Richmond County (Unincorporated Areas).
| Approximately 600 feet upstream of Millstone Road (State Road 1487) | +280
Buffalo Creek | At the confluence with Little River | +201 | Richmond County (Unincorporated Areas).
| Approximately 0.7 mile upstream of Cartledge Creek Road (State Road 1005) | +262
Tributary 1 | At the confluence with Buffalo Creek | +224 | Richmond County (Unincorporated Areas).
| Approximately 0.6 mile upstream of the confluence with Buffalo Creek | +238
Camp Branch | At the confluence with Gum Swamp Creek | +256 | Richmond County (Unincorporated Areas).
| Approximately 0.5 mile upstream of Cognac Road (State Road 1605) | +302
Cartledge Creek | At the confluence with Pee Dee River | +152 | Richmond County (Unincorporated Areas).
| Approximately 1,400 feet upstream of John Webb Road (State Road 1308) | +294
Tributary 1 | At the confluence with Cartledge Creek | +152 | Richmond County (Unincorporated Areas).
| Approximately 2.0 miles upstream of the confluence with Cartledge Creek | +219
Tributary 2 | At the confluence with Cartledge Creek | +168 | Richmond County (Unincorporated Areas).
| Approximately 0.5 mile upstream of Dockery Road (State Road 1143) | +218
Cheek Creek | At the confluence with Little River | +207 | Richmond County (Unincorporated Areas).
| Approximately 1,800 feet upstream of the confluence with Little River | +207
Chock Creek | At the confluence with Hitchcock Creek | +239 | Richmond County (Unincorporated Areas).
| Approximately 0.5 mile upstream of Gray Woods Road | +279
Tributary 1 | At the confluence with Chock Creek | +247 | Richmond County (Unincorporated Areas).
| Approximately 1.0 mile upstream of the confluence with Chock Creek | +260
Tributary 2 | At the confluence with Chock Creek | +263 | Richmond County (Unincorporated Areas).
| Approximately 1.3 miles upstream of Fox Road (State Road 1606) | +301
Colemans Creek | At the confluence with Mountain Creek | +193 | Richmond County (Unincorporated Areas).
| Approximately 1.8 miles upstream of Grassy Island Road (State Road 1148) | +271
Cox Pond | At the upstream side of the Railroad | +274 | Richmond County (Unincorporated Areas), City of Hamlet.
| Approximately 150 feet downstream of McDonald Avenue | +296
Crawford Branch | Approximately 1.2 miles downstream of Old Peggy Mill Road (State Road 1610) | +260 | Richmond County (Unincorporated Areas).
| Approximately 0.6 mile upstream of Old Peggy Mill Road (State Road 1610) | +302
Crooked Creek | At County Line Road (State Road 1803) | +244 | Richmond County (Unincorporated Areas).
| Approximately 700 feet downstream of Scholl Shankle Road (State Road 1805) | +268
Drowning Creek | At the Richmond/Scotland/Hoke/Moore County boundaries | +268 | Richmond County (Unincorporated Areas).
| At the Richmond/Montgomery/Moore County boundary | +368
Gum Swamp Creek | At Gum Swamp Road (State Road 1609) | +255 | Richmond County (Unincorporated Areas).
| Approximately 0.5 mile upstream of Marston Road (State Road 1001) | +329
Hitchcock Creek | At the confluence with Pee Dee River | +138 | Richmond County (Unincorporated Areas), City of Rockingham.
| Approximately 0.6 mile upstream of the confluence of Indian Camp Lake | +302
Tributary 1 | At the confluence with Hitchcock Creek | +186 | Richmond County (Unincorporated Areas), City of Rockingham.
| Approximately 250 feet downstream of Richmond Road | +235
Tributary 2 | At the confluence with Hitchcock Creek | +195 | Richmond County (Unincorporated Areas), City of Rockingham.
| Approximately 30 feet downstream of Richmond Road | +251
Tributary 2A | At the confluence with Hitchcock Creek Tributary 2 | +195 | Richmond County (Unincorporated Areas), City of Rockingham.
| Approximately 0.5 mile upstream of the confluence of Hitchcock Creek Tributary 2 | +267
Tributary 2B | At the confluence with Hitchcock Creek Tributary 2 | +241 | City of Rockingham.
| Approximately 50 feet downstream of Richmond Road | +249
Tributary 3 | At the confluence with Hitchcock Creek | +195 | Richmond County (Unincorporated Areas), City of Rockingham.
| Approximately 1,100 feet upstream of Nicholson Road | +220
Tributary 4 | At the confluence with McKinney Lake/Hitchcock Creek | +283 | Richmond County (Unincorporated Areas).
| Approximately 0.4 mile upstream of the confluence with McKinney Lake/Hitchcock Creek | +290
Indian Camp Lake | At the confluence with Hitchcock Creek | +287 | Richmond County (Unincorporated Areas).
| Approximately 1.0 mile upstream of the confluence with Hitchcock Creek | +306
Tributary 1 | At the confluence with Indian Camp Lake | +296 | Richmond County (Unincorporated Areas).
| Approximately 1.4 miles upstream of the confluence with Indian Camp Lake | +349
Jennies Branch | At the confluence with Hitchcock Creek | +159 | Richmond County (Unincorporated Areas), City of Rockingham.
| Approximately 1,300 feet upstream of Patterson Street | +276
Jobs Creek | At the confluence with Little Mountain Creek | +375 | Richmond County (Unincorporated Areas).
| Approximately 0.5 mile upstream of U.S. Highway 220 | +418
Joes Creek | Approximately 1,700 feet upstream of the confluence with Joes Creek Tributary | +224 | Richmond County (Unincorporated Areas).
| Approximately 500 feet upstream of Old Laurinburg Road (State Road 1614) | +276
Tributary | At the County Line Road (State Road 1802 | +261 | Richmond County (Unincorporated Areas).
| Approximately 1.0 mile upstream of County Line Road (State Road 1802 | +282
Kinsman Lake | Approximately 1,000 feet upstream of the confluence with South Prong Falling Creek | +260 | Richmond County (Unincorporated Areas), City of Hamlet.
| Approximately 0.6 mile upstream of the confluence with South Prong Falling Creek | +276
Lightwood Knot Creek | Approximately 1,800 feet downstream of Ghio Road (State Road 1803) | +246 | Richmond County (Unincorporated Areas).
| Approximately 0.6 mile upstream of Ghio Road (State Road 1803) | +259
Little Hamer Creek | At the confluence with Wolf Branch Creek and Unnamed Tributary of Wolf Branch Creek | +238 | Richmond County (Unincorporated Areas).
| At the Richmond/Montgomery County boundary | +241
Little Mountain Creek | The confluence with Mountain Creek and Big Mountain Creek | +246 | Richmond County (Unincorporated Areas).
| Approximately 3.6 miles upstream of the confluence of Jobs Creek | +486
Little River | At the confluence with Pee Dee River | +200 | Richmond County (Unincorporated Areas).
| Approximately 1,900 feet upstream of the confluence of Cheek Creek | +207
Marks Creek | At the North Carolina/South Carolina State boundary | +120 | Richmond County (Unincorporated Areas), City of Hamlet.
| Approximately 2.3 miles upstream of Boyd Lake Road | +340
Tributary 1 | At the confluence with Marks Creek | +193 | Richmond County (Unincorporated Areas).
| Approximately 0.6 mile upstream of the confluence with Marks Creek | +210
Tributary 2 | At the confluence with Marks Creek | +212 | Richmond County (Unincorporated Areas).
| Approximately 0.8 mile upstream of the confluence with Marks Creek | +246
Tributary 3 | At the confluence with Marks Creek | +217 | Richmond County (Unincorporated Areas).
| Approximately 1.1 miles upstream of the confluence with Marks Creek | +257
Tributary 4 | At the confluence with Marks Creek | +221 | Richmond County (Unincorporated Areas).
| Approximately 500 feet upstream of Homeplace Road (State Road 1995) | +247
Tributary 5 | At the confluence with Marks Creek | +225 | Richmond County (Unincorporated Areas).
| Approximately 0.9 mile upstream of the confluence with Marks Creek | +262
Tributary 6 | At the confluence with Marks Creek | +228 | Richmond County (Unincorporated Areas).
| Approximately 0.4 mile upstream of NC Highway 177 | +244
Tributary 7 | At the confluence with Marks Creek | +233 | Richmond County (Unincorporated Areas), City of Hamlet.
| Approximately 0.4 mile upstream of U.S. Highway 74 | +282
Tributary 8 | At the confluence with Marks Creek | +242 | Richmond County (Unincorporated Areas).
| Approximately 1.5 miles upstream of the confluence with Marks Creek | +263
Tributary 9 | At the confluence with Marks Creek | +294 | Richmond County (Unincorporated Areas), City of Hamlet.
| Approximately 0.4 mile upstream of Raintree Road | +323
Middle Prong Hamer Creek | At the confluence with Little River | +201 | Richmond County (Unincorporated Areas).
| At the Richmond/Montgomery County boundary | +246
Millstone Creek | At the confluence with Rocky Fork Creek/Millstone Lake | +311 | Richmond County (Unincorporated Areas).
| Approximately 0.8 mile upstream of the confluence with Rocky Fork Creek/Millstone Lake | +334
Mountain Creek | At the confluence with Pee Dee River | +192 | Richmond County (Unincorporated Areas).
| At the confluences of Big Mountain Creek and Little Mountain Creek | +246
Naked Creek (into Drowning Creek) | At the confluence with Drowning Creek | +313 | Richmond County (Unincorporated Areas).
| At Research Farm Road (State Road 1527) | +458
Naked Creek (into Pee Dee River) | At the confluence with Pee Dee River | +190 | Richmond County (Unincorporated Areas).
| Approximately 1,100 feet upstream of Parson Lake Road (State Road 1145) | +267
North Prong Falling Creek | Approximately 1,200 feet upstream of Long Drive | +222 | Richmond County (Unincorporated Areas), City of Rockingham.
| Approximately 1.7 miles upstream of the confluence of North Prong Falling Creek Tributary 1 | +295
Tributary 1 | At the confluence with North Prong Falling Creek | +256 | Richmond County (Unincorporated Areas).
| Approximately 0.6 mile upstream of the confluence with North Prong Falling Creek | +265
Paradise Creek | At the confluence with Rocky Fork Creek | +351 | Richmond County (Unincorporated Areas).
| Approximately 0.4 mile upstream of Fire Tower Road (State Road 1455) | +369
Pee Dee River | At the North Carolina/South Carolina State boundary | +110 | Richmond County (Unincorporated Areas).
| At the Montgomery/Richmond County boundary | +220
Rocky Fork Creek | At the confluence with Ledbetter Lake | +238 | Richmond County (Unincorporated Areas).
| Approximately 1.3 miles upstream of O.G. Reynolds Road (State Road 1457) | +499
Rocky Branch | At the confluence with Hitchcock Creek | +159 | Richmond County (Unincorporated Areas), City of Rockingham.
| Approximately 0.4 mile upstream of Sandhill Road (State Road 1971) | +263
Rocky Fork Creek Tributary 1 | At the confluence with Rocky Fork Creek | +262 | Richmond County (Unincorporated Areas).
| Approximately 0.8 mile upstream of the confluence with Rocky Fork Creek | +288
Silver Creek | At the confluence with Big Mountain Creek | +373 | Richmond County (Unincorporated Areas).
| Approximately 0.6 mile upstream of County Line Road (State Road 1153) | +398
Solomans Creek | At the confluence with Pee Dee River | +132 | Richmond County (Unincorporated Areas).
| Approximately 900 feet upstream of Stokes Road (State Road 1992) | +259
South Prong Cartledge Creek | At the confluence with Cartledge Creek | +228 | Richmond County (Unincorporated Areas).
| Approximately 1,600 feet upstream of Sandy Ridge Church Road (State Road 1305) | +302
South Prong Falling Creek | At the upstream side of the Richmond College Lake Dam | +276 | Richmond County (Unincorporated Areas), City of Hamlet.
| Approximately 1,200 feet upstream of Wire Grass Road | +297
Tributary 1 | At the confluence with South Prong Falling Creek/Richmond College Lake | +276 | Richmond County (Unincorporated Areas), City of Hamlet.
| Approximately 1,800 feet upstream of the confluence with South Prong Falling Creek/Richmond College Lake | +295
Speeds Creek | At the confluence with Solomans Creek | +135 | Richmond County (Unincorporated Areas).
| Approximately 0.8 mile upstream of Sandhill Road (State Road 1971) | +176
Treeces Branch | At the confluence with Cartledge Creek | +184 | Richmond County (Unincorporated Areas).
| Approximately 780 feet upstream of Cartledge Creek Road (State Road 1005) | +242
Unnamed Tributary to Wolf Branch Creek | At the confluence with Wolf Branch Creek and Little Hamer Creek | +238 | Richmond County (Unincorporated Areas).
| At the Richmond/Montgomery County boundary | +245
Watery Branch | At the confluence with Speeds Creek | +145 | Richmond County (Unincorporated Areas).
| Approximately 1,900 feet upstream of the confluence with Speeds Creek | +165
White Creek Tributary | Approximately 1,000 feet downstream of Osborne Road (State Road 1803) | +198 | Richmond County (Unincorporated Areas).
| Approximately 0.5 mile upstream of Osborne Road (State Road 1803) | +207
Wolf Branch Creek | At the confluence with Middle Prong Hamer Creek | +220 | Richmond County (Unincorporated Areas).
| At the confluence of Little Hamer Creek and Unnamed Tributary of Wolf Branch Creek | +238
# Depth in feet above ground.
* National Geodetic Vertical Datum.
+ North American Vertical Datum.
ADDRESSES
City of Hamlet
Maps are available for inspection at the Hamlet City Hall, 201 Main Street, Hamlet, North Carolina.
City of Rockingham
Maps are available for inspection at the Rockingham City Hall, Planning Department, 514 Rockingham Road, Rockingham, North Carolina.
Town of Hoffman
Maps are available for inspection at the Hoffman Town Hall, 2176 Caddell Road, Hoffman, North Carolina.
Richmond County (Unincorporated Areas)
Maps are available for inspection at the Richmond County Planning Department, 221 South Hancock Street, Rockingham, North Carolina.

(Catalog of Federal Domestic Assistance No. 83.100, “Flood Insurance.”)
Dated: May 3, 2007.
David I. Maurstad,
Federal Insurance Administrator of the National Flood Insurance Program, Federal Emergency Management Agency, Department of Homeland Security.

[FR Doc. 07-2385 Filed 5-16-07; 8:45 am]

BILLING CODE 9110-12-P